NUCLEAR REGULATORY COMMISSION

[Docket Nos. 50-250/251-LR; ASLBP No. 01-786-03-LR]

Florida Power and Light Company Turkey Point Nuclear Plant, Units 3 and 4; Establishment of Atomic Safety and Licensing Board

Pursuant to delegation by the Commission dated December 29, 1972, published in the Federal Register, 37 FR 28710 (1972), and Sections 2.105, 2.700, 2.702, 2.714, 2.714a, 2.717, 2.721, and 2.772(j) of the Commission's Regulations, all as amended, an Atomic Safety and Licensing Board is being established to preside over the following proceeding:

Florida Power and Light Company

Turkey Point Nuclear Plant, Units 3 and 4

This Board is being established pursuant to a notice published in the Federal Register (65 FR 60693 (Oct. 12, 2000)) and the Commission's November 28, 2000 order referring intervention petitions for a hearing (CLI-00-23, 52 NRC —— (Nov. 28, 2000)). The proceeding involves an application by the Florida Power and Light Company to renew the operating licenses for its Turkey Point Nuclear Plant, Units 3 and 4, pursuant to the provisions of 10 CFR part 54. The renewed licenses, if granted, would authorize the applicant to operate those units for an additional twenty-year period.

The Board is comprised of the following administrative judges:

Thomas S. Moore, Chairman, Atomic Safety and Licensing Board Panel, U.S. Nuclear Regulatory Commission, Washington, D.C. 20555-0001.

Dr. Richard F. Cole, Atomic Safety and Licensing Board Panel, U.S. Nuclear Regulatory Commission, Washington, D.C. 20555-0001.

Dr. Charles N. Kelber, Atomic Safety and Licensing Board Panel, U.S. Nuclear Regulatory Commission, Washington, DC 20555-0001

All correspondence, documents and other materials shall be filed with the Judges in accordance with 10 CFR § 2.701.

Issued at Rockville, Maryland, this 29th day of November 2000.
G. Paul Bollwerk, III,
Chief Administrative Judge, Atomic Safety and Licensing Board Panel.

[FR Doc. 00-30905 Filed 12-4-00; 8:45 am]

BILLING CODE 7590-01-P